FEDERAL COMMUNICATIONS COMMISSION

47 CFR Part 73

[DA 01-445; MM Docket No. 99-233; RM-9662 & RM-9828]

Radio Broadcasting Services; Graham, TX

AGENCY: Federal Communications Commission.

ACTION: Proposed rule; dismissal.

SUMMARY: Graham Tollway Broadcasting Company proposed the allotment of Channel 253A at Graham, Texas. See 64 FR 36322, July 6, 1999. The proposal for Graham has been withdrawn with no other interest expressed in an allotment at Graham. A counterproposal was filed by North Texas Radio Group, L.P., proposing changes at Bridgeport, Bonham, Palestine, Price, Range and Stephenville, Texas and Ardmore, Lawton, Tecumseh and Fort Towson, Oklahoma (RM-9828). Although the counterproposal was placed on public notice, it was found to be technically unacceptable and has been dismissed. Therefore, the petition and counterproposal have been dismissed, with no action taken with respect to the above-listed communities.

FOR FURTHER INFORMATION CONTACT: Kathleen Scheuerle, Mass Media Bureau, (202) 418-2180.

SUPPLEMENTARY INFORMATION: This is a summary of the Commission's Report and Order, MM Docket No. 99-233, adopted February 7, 2001, and released February 16, 2001. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

Federal Communications Commission.
John A. Karousos,
Chief, Allocations Branch, Policy and Rules Division, Mass Media Bureau.

[FR Doc. 01-4919 Filed 2-28-01; 8:45 am]

BILLING CODE 6712-01-P